FEDERAL HOUSING FINANCE BOARD

Sunshine Act Notice

Federal Register Citation of Previous Announcement: 68 FR 3530, January 24, 2003.

Previously Announced Time and Date of the Meeting: 3 p.m., Wednesday, January 29, 2003.

Change of Meeting Time: Notice is hereby given that the Board of Directors meeting scheduled for 3 p.m. on Wednesday, January 29, 2003 has been changed to 10 a.m. on Wednesday, January 29, 2003.

CONTACT PERSON FOR MORE INFORMATION: Elaine L. Baker, Secretary to the Board, (202) 408-2837.

Arnold Intrater,
General Counsel.

[FR Doc. 03-2110 Filed 1-24-03; 3:33 pm]

BILLING CODE 6725-01-P